DEPARTMENT OF COMMERCE

National Oceanic and Atmospheric Administration

RIN 0648-XG987

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council (Council) will hold a meeting that includes its Committee and Advisory Panel for the Atlantic Mackerel, Squid, and Butterfish Fishery Management Plan.

DATES: The meeting will be held on Thursday, May 2, 2019, beginning at 12:30 p.m. and conclude by 4:30 p.m. For agenda details, see SUPPLEMENTARY INFORMATION.

ADDRESSES: The meeting will be held via webinar with a telephone-only audio connection: http://mafmc.adobeconnect.com/illex-wg/. Telephone instructions are provided upon connecting, or the public can call direct: 800-832-0736, Rm: *7833942#.

Council address: Mid-Atlantic Fishery Management Council, 800 N. State Street, Suite 201, Dover, DE 19901; telephone: (302) 674-2331 or on their website at www.mafmc.org.

FOR FURTHER INFORMATION CONTACT: Christopher M. Moore, Ph.D., Executive Director, Mid-Atlantic Fishery Management Council, telephone: (302) 526-5255.

SUPPLEMENTARY INFORMATION: The Council is forming a workgroup to explore improved Illex squid assessment and management. This meeting will help develop the objectives and Terms of Reference (TORs) of the workgroup.

Special Accommodations

The meeting is physically accessible to people with disabilities. Requests for sign language interpretation or other auxiliary aid should be directed toM. Jan Saunders, (302) 526-5251, atleast 5 days prior to any meeting date.

Dated: April 15, 2019.
Tracey L. Thompson,
Acting Deputy Director, Office of Sustainable Fisheries, National Marine Fisheries Service.

[FR Doc. 2019-07817 Filed 4-17-19; 8:45 am]

BILLING CODE 3510-22-P